DEPARTMENT OF EDUCATION

Submission for OMB Review; Comment Request

Correction

In notice document 01-2451 appearing on page 8102 in the issue of January 29, 2001, make the following correction:

On page 8102, in the first column, in the DATES section the effective date “March 30, 2001” should read “February 28, 2001”.

[FR Doc. C1-2451 Filed 2-1-01; 8:45 am]

BILLING CODE 1505-01-D